DEPARTMENT OF TRANSPORTATION

Research and Special Programs Administration

[Docket No. RSPA-03-16841; Notice 1]

Pipeline Safety: Petition for Waiver; Columbia Gas Transmission Company

AGENCY: Research and Special Programs Administration (RSPA), DOT.

ACTION: Notice of intent to consider petition for waiver for extension of time.

SUMMARY: The Research and Special Programs Administration's (RSPA) Office of Pipeline Safety (OPS) is considering Columbia Gas Transmission Company (Columbia) petition for a 12-month extension of time to comply with the provisions of 49 CFR 192.611(d), which require pipeline operators to confirm or revise the maximum allowable operating pressure (MAOP) within 18-months after a class location change.

DATES: Persons interested in submitting written comments on the waiver proposed in this notice must do so by February 9, 2004. Late-filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: James Reynolds by phone at 202-366-2786, by fax at 202-366-4566, by mail at DOT, RSPA, OPS, 400 Seventh Street, SW., Washington, DC, 20590, or by e-mail at james.reynolds@rspa.dot.gov.

SUPPLEMENTARY INFORMATION: Columbia petitioned RSPA/OPS for a waiver from compliance with 49 CFR 192.611(d) for two segments of its natural gas transmission pipeline. Columbia is asking for an additional 12-months beyond the 18-months allowed by § 192.611(d) to continue to operate their Line MC pipeline at its current MAOP.

Section § 192.611(d) requires an operator to complete a class location change study whenever it believes an increase in population density may have caused a change in class location as defined in § 192.5. The operator must complete a study and confirm or revise its maximum authorized operating pressure within 18-months of the class location change. The operator is required to either reduce pressure or replace the pipe with thicker-walled pipe to lower pipe wall stress to acceptable percentages of specified minimum yield strength (SMYS).

In January 2002, Columbia confirmed that a section of its Line MC pipeline had changed from a Class 2 to a Class 3 location. To maintain the current MAOP of 899 psig, Columbia elected to replace 9,500 feet of this pipeline with new, heavier wall pipe. Two segments of the replacement project, totaling approximately 1,700 feet, involve stream crossings or wetland areas. The two segments are 1,506 feet and 200 feet in length, respectively. Columbia must receive joint Maryland/Federal environmental permits prior to replacing these two segments of pipe.

Columbia anticipated that 7,800 feet of its replacement project would be complete by October 31, 2003. However, due to unforeseen delays in obtaining permits for pipe replacement in the stream crossings and wetland areas, Columbia was unable to complete the replacement of the remaining 1,700 feet of pipe prior to expiration of the 18-month period allowed by § 192.611(d).

Because Line MC must be in service at its MAOP to maintain gas supplies to downstream customers, Columbia plans to discontinue its pipeline replacement project at the start of the winter heating season. Columbia proposes to resume the replacement project in May 2004 and expects all 9,500 feet of its Line MC to be replaced not later than July 1, 2004. For this reason, Columbia requests a time extension to July 1, 2004 to comply with § 192.611(d).

As justification for the waiver, Columbia has submitted the following information on the integrity of its 30-inch Line MC pipeline:

• In 1999 Columbia internally inspected its 30-inch pipeline using both geometry and high resolution magnetic flux leakage tools; no anomalies or dents were identified on the two streams and wetland crossing segments on Columbia's Line MC.

• Cathodic protection test stations on these two segments of Line MC are above the minimum criteria.

• There have been no leaks on these two segments of Line MC.

• The existing pipe and coating on these two segments appear to be in satisfactory condition.

• The existing pipe was manufactured using the double submerged arc welding process.

• The existing pipeline was pressure tested twice; in1962 during construction and again in 1974. The pipeline was tested above 100% SMYS during both hydrostatic tests.

Authority: 49 App. U.S.C. 60118(c) and 2015; and 49 CFR 1.53.

Issued in Washington, DC on January 5, 2004.
Stacey L. Gerard,
Associate Administrator for Pipeline Safety.

[FR Doc. 04-391 Filed 1-8-04; 8:45 am]

BILLING CODE 4910-60-P